DEPARTMENT OF HEALTH AND HUMAN SERVICES

Centers for Disease Control and Prevention

Board of Scientific Counselors, National Institute for Occupational Safety and Health (BSC, NIOSH)

In accordance with section 10(a)(2) of the Federal Advisory Committee Act (Pub. L. 92-463), the Centers for Disease Control and Prevention (CDC) announces the following meeting for the aforementioned committee:

Time and Date: 8:30 a.m.-3:00 p.m., EDT, September 22, 2015.

Place: Patriots Plaza I, 395 E Street SW., Room 9000, Washington, DC 20201.

Status: Open to the public, limited only by the space available. The meeting room accommodates approximately 33 people. The meeting is also open to the public via webcast. If you wish to attend in person or by webcast, please see the NIOSH Web site to register (http://www.cdc.gov/niosh/bsc/) or call (404-498-2539) at least five business days in advance of the meeting. Teleconference is available toll-free; please dial (888) 397-9578, Participant Pass Code 63257516. Members of the public who wish to address the BSC, NIOSH are requested to contact the Executive Secretary for scheduling purposes (see contact information below). Alternatively, written comments to the BSC may be submitted via an on-line form at the following Web site: http://www.cdc.gov/niosh/bsc/contact.html.

Purpose: The Secretary, the Assistant Secretary for Health, and by delegation the Director, Centers for Disease Control and Prevention, are authorized under Sections 301 and 308 of the Public Health Service Act to conduct directly or by grants or contracts, research, experiments, and demonstrations relating to occupational safety and health and to mine health. The Board of Scientific Counselors provides guidance to the Director, National Institute for Occupational Safety and Health on research and prevention programs. Specifically, the Board provides guidance on the Institute's research activities related to developing and evaluating hypotheses, systematically documenting findings and disseminating results. The Board evaluates the degree to which the activities of the National Institute for Occupational Safety and Health: (1) Conform to appropriate scientific standards, (2) address current, relevant needs, and (3) produce intended results.

Matters for Discussion: NIOSH Director's update, Structuring Labor-Management Participation in Research, Systematic Review (Grading Evidence and Recommendations), Occupational Exposure Banding, and an Update from the NIOSH Research Translation Office.

Agenda items are subject to change as priorities dictate. An agenda is also posted on the NIOSH Web site (http://www.cdc.gov/niosh/bsc/).

Contact Person for More Information: John Decker, Executive Secretary, BSC, NIOSH, CDC, 1600 Clifton Road NE., MS-E20, Atlanta, GA 30329-4018, telephone (404) 498-2500, fax (404) 498-2526.

The Director, Management Analysis and Services Office, has been delegated the authority to sign Federal Register notices pertaining to announcements of meetings and other committee management activities for both the CDC and the Agency for Toxic Substances and Disease Registry.

Elaine L. Baker,
Director, Management Analysis and Services Office, Centers for Disease Control and Prevention.

[FR Doc. 2015-20999 Filed 8-24-15; 8:45 am]

BILLING CODE 4163-18-P